DEPARTMENT OF ENERGY

Federal Energy Regulatory Commission

Notice of Revocation of Market-Based Rate Authority and Termination of Market-Based Rate Tariffs

| Docket Nos.
Aleph One, Inc. | ER04-686-000
Alpha Domestic Power Trading, LLC | ER08-14-000
American Power Exchange, Inc. | ER94-1578-000
CBA Endeavors, LLC | ER08-996-000
Cesarie, Inc. | ER10-397-000
Coburn Energy, LLC | ER08-1523-000
Community Power & Utility | ER10-1466-000
Consulting Gasca & Associates, LLC | ER10-899-000
Eastland Power, LLC | ER08-665-000
Ebersen, Inc. | ER03-1330-000
EnergyWindow, Inc. | ER04-584-000
Green Energy Partners, LLC | ER08-1211-000
Innovative Technical Services, LLC | ER03-763-000
Inupiat Energy Marketing, LLC | ER09-1748-000
Kohler Co. | ER95-1018-000
KRK Energy | ER05-713-000
Lafarge Midwest, Inc. | ER09-1146-000
Luna Energy Investments, LLC | ER08-859-000
Matched LLC | ER10-719-000
Mid-Power Service Corporation | ER97-4257-000
Olde Towne Energy Associates, LLC | ER04-942-000
P&T Power Company | ER97-18-000
Quiet Light Trading, LLC | ER05-51-000
Redwood Energy Marketing, LLC | ER04-545-000
SF Phosphates Limited Company, LLC | ER01-1121-000
Sirius Investment Management, Inc. | ER05-71-000
Smart One Energy, LLC | ER10-2943-000
Tallgrass Energy Partners | ER08-679-000
Telemagine, Inc. | ER05-419-000
Verde Renewable Energy, Inc. | ER07-48-000
Vesta Capital Partners LP | ER05-1434-000
Vesta Trading LP | ER05-939-000
Vickers Power, LLC | ER09-498-000
Walden Energy, LLC | ER05-66-000
Yaka Energy, LLC | ER05-1194-000

On January 20, 2012, the Commission issued an order announcing its intent to revoke the market-based rate authority of the public utilities listed in the caption of that order, which had failed to file baseline tariffs.¹ The Commission provided the utilities 60 days in which to file their baseline tariffs in accordance with Order No. 714 ² or face revocation of their market-based rate authority.

¹ Acacia Energy, Inc., 138 FERC ¶ 61,046 (2012) (January 20 Order).

² Electronic Tariff Filings, Order No. 714, FERC Stats. & Regs. ¶ 31,276 (2008).

In Order No. 714, the Commission explained that in order for the Commission and the public to obtain a complete picture of a company's tariff, the various provisions need to be integrated into a single system that will provide information as to the status of tariff provisions, permit the assembly of a complete tariff, and permit tariff-related research.³ Further, the Commission explained that the standards being adopted in Order No. 714 merely replace the former paper system database with a very similar electronic database that will track tariff submissions and tariff history, but in a form that will make tariff information more widely available over the Internet. The Commission stated that “the database will provide easier access to tariffs and allow the viewing of proposed tariff sections in context.” ⁴ To implement such a database, the Commission required each regulated entity to make a filing to establish its baseline tariffs and “because eTariff is a database system with no existing records, the baseline tariff needs to reflect the tariff as accepted by the Commission.” ⁵ In Electronic Tariff Filings, the Commission clarified that companies had until September 30, 2010 to submit their baseline filings.⁶

³ Id. P 10.

⁴ Id. P 11.

⁵ Id. P 100.

⁶ 130 FERC ¶ 61,228, at P 6 (2010).

In the January 20 Order, the Commission directed the public utilities listed in the caption of that order to file the required baseline tariffs within 60 days of the date of issuance of the order or face revocation of their authority to sell power at market-based rates and termination of their electric market-based rate tariffs.⁷

⁷ January 20 Order at Ordering Paragraph.

The time period for compliance with the January 20 Order has elapsed. The 35 companies identified above have failed to file their delinquent baseline tariffs.

The Commission hereby revokes the market-based rate authority and terminates the electric market-based rate tariffs of the above-captioned public utilities.

Dated: April 13, 2012.
Kimberly D. Bose,
Secretary.

[FR Doc. 2012-9655 Filed 4-20-12; 8:45 am]

BILLING CODE 6717-01-P